DEPARTMENT OF HEALTH AND HUMAN SERVICES

Centers for Disease Control and Prevention

[Program Announcement 04193]

Quality Assurance of HIV and HIV/AIDS-Related Testing; Notice of Intent To Fund Single Eligibility Award

A. Purpose

The Centers for Disease Control and Prevention (CDC) announces the intent to fund fiscal year (FY) 2004 funds for a cooperative agreement program for to improve the quality of laboratory testing services in support of HIV prevention, surveillance, care and treatment programs in Zimbabwe. The Catalog of Federal Domestic Assistance number for this program is 93.939.

B. Eligible Applicant

Assistance will be provided only to the Zimbabwe National Quality Assurance Program (ZINQAP). ZINQAP is uniquely qualified to be the recipient organization for the following reasons:

a. ZINQAP is the only laboratory quality assurance body in Zimbabwe and has been in existence since 1995 with the mission of assisting laboratories to attain and maintain a high standard of performance. ZINQAP has sole government authority by Zimbabwe's Health Professions Authority (HPA) to certify laboratories.

b. ZINQAP coordinated the development of Zimbabwe's national standards for medical laboratories and test sites. These standards require laboratories and test sites to implement and maintain quality assurance activities. Laboratories adhering to these standards will be approved by ZINQAP. It is anticipated that laboratories and test sites meeting these standards will be recognized by the HPA as meeting the legal requirements for operating a medical laboratory service.

c. ZINQAP currently provides a limited proficiency-testing program for approximately 90 laboratories and test sites within the country; and, as such, has established relationships with district, provincial, and regional laboratories within the country. This is the only existing in-country quality assurance program and, with minimal time, it can expand its capabilities.

d. ZINQAP has established relationships with U.S.-based scientists, international quality assurance experts, and local governmental public health officials. ZINQAP routinely interfaces with appropriate officials on issues affecting the quality of Zimbabwe's laboratory test results.

C. Funding

Approximately $200,000 is available in FY 2004 to fund this award. It is expected that the award will begin on or before July 15, 2004, and will be made for a 12-month budget period within a project period of up to three years. Funding estimates may change.

D. Where To Obtain Additional Information

For general comments or questions about this announcement, contact: Technical Information Management, CDC Procurement and Grants Office, 2920 Brandywine Road, Atlanta, GA 30341-4146, Telephone: 770-488-2700.

For program technical assistance, contact: Shannon Hader, M.D., Director, CDC Zimbabwe, 38 Samora Machel Avenue, Harare ZIMBABWE, Telephone: 263-4 796040, E-mail: Haders@zimcdc.co.zw;

or

Stacy M. Howard, Health Scientist (Project Officer), Division of Laboratory Systems, Public Health Practice Program Office, 4770 Buford Hwy., MS A-16, Atlanta, GA 30341, Telephone: 770-488-8065, E-mail: sam5@cdc.gov.

For budget assistance, contact: Shirley Wynn, Grants Management Specialist, CDC Procurement and Grants Office, 2920 Brandywine Road, Atlanta, GA 30341, Telephone: 770-488-2696, E-mail: zbx6@cdc.gov.

Dated: May 5, 2004.
William P. Nichols,
Acting Director, Procurement and Grants Office, Centers for Disease Control and Prevention.

[FR Doc. 04-10619 Filed 5-10-04; 8:45 am]

BILLING CODE 4163-18-P